DEPARTMENT OF AGRICULTURE

Forest Service

Roadless Area Conservation National Advisory Committee

AGENCY: Forest Service, USDA.

ACTION: Notice of meeting.

SUMMARY: The Roadless Area Conservation National Advisory Committee (Committee) will meet in Washington, DC. The purpose of this meeting is to review and draft recommendations to the Secretary of Agriculture on state petitions for inventoried roadless area management. Petitions to be reviewed include those received from New Mexico, California, and possibly any petitions received between the publication of this notice and meeting dates.

DATES: The meeting will be held August 30-31, 2006 from 8 a.m. to 5 p.m. each day.

ADDRESSES: The meeting will be held at the Forest Service's Yates Building at 201 14th Street, SW., Washington, DC 20250.

FOR FURTHER INFORMATION CONTACT: Garth Smelser, Committee Coordinator, at gsmelser@fs.fed.us or (202) 205-0992, USDA Forest Service, 1400 Independence Avenue, SW., Mailstop 1104, Washington, DC 20250.

Individuals who use telecommunication devices for the deaf (TDD) may call the Federal Information Relay Service (FIRS) at 1-800-877-8339 between 8 a.m. and 8 p.m., Eastern Standard Time, Monday through Friday.

SUPPLEMENTARY INFORMATION: The state petitions scheduled for review and other relevant meeting materials will be available online at http://www.roadless.fs.fed.us.

The meeting is open to the public and interested parties are invited to attend; building security requires you to provide your name to the Committee Coordinator (contact information listed above) by August 20, 2006. You will need photo identification to enter the building.

While meeting discussion is limited to Forest Service staff and Committee members, the public will be allowed to offer written and oral comments for the Committee's consideration. Attendees wishing to comment orally will be allotted a specific amount of time to speak during a public comment period at the end of each day. To offer oral comments on either day, please contact the Committee Coordinator at the contact number above. Oral and written comments should (1) specifically address the state petitions being reviewed, (2) focus on the basis for agreement/disagreement with a petition, and (3) if in disagreement, recommend an alternative.

Dated: August 3, 2006.
Frederick L. Norbury,
Associate Deputy Chief, National Forest System.

[FR Doc. E6-13120 Filed 8-10-06; 8:45 am]

BILLING CODE 3410-11-P